DEPARTMENT OF HEALTH AND HUMAN SERVICES

Substance Abuse and Mental Health Services Administration

Center for Substance Abuse Prevention; Notice of Meeting

Pursuant to Pub. L. 92-463, notice is hereby given of the meeting of the Substance Abuse and Mental Health Services Administration (SAMHSA) Drug Testing Advisory Board on December 13-14, 2005.

A portion of the meeting will be open and will include a roll call, general announcements, a Department of Health and Human Services drug testing program update, a Department of Transportation drug testing program update, and a Nuclear Regulatory Commission drug testing program update.

Attendance by the public will be limited to space available. Public comments are welcome. Please communicate with the individual listed below as contact to make arrangements to comment or to request special accommodations for persons with disabilities.

The Board will also meet to develop the final revisions to the proposed Mandatory Guidelines for Federal Workplace Drug Testing Programs that were published in the Federal Register on April 13, 2004 (69 FR 19673) and to discuss Federal agency specimen results, medical review officer interpretations, laboratory inspection issues, and analytical instrumentation issues. This meeting will be conducted in closed session since discussing these issues in open session will significantly frustrate the Department's ability to develop the revisions to the Mandatory Guidelines or to disclose information of a personal nature where disclosure would constitute an unwarranted invasion of personal privacy. The HHS Office of General Counsel made the determination that such matters are protected by exemptions (6) and 9(B) of section 552b(c) of title 5 U.S.C. and therefore may be closed to the public.

To facilitate entering the building for the open session, public attendees are required to contact Mrs. Giselle Hersh, Division of Workplace Programs, 1 Choke Cherry Road, Room 2-1042, Rockville, MD 20857, 240-276-2605 (telephone) or by e-mail to Giselle.Hersh@samhsa.hhs.gov.

Substantive program information and a roster of Board members may be obtained by accessing the SAMHSA workplace Web site (http://workplace.samhsa.gov) or communicating with the contact whose name and telephone number are listed below. The transcript for the open session will be available on the SAMHSA workplace Web site as soon as possible after the meeting.

Committee Name: Substance Abuse and Mental Health Services Administration Drug Testing Advisory Board.

Meeting Date: December 13-14, 2005.

Place: SAMHSA Building, Sugarloaf Conference Room, 1 Choke Cherry Road, Rockville, Maryland 20850.

Type: Open: December 13, 2005; 8:30 a.m.-10:30 a.m.

Closed: December 13, 2005; 10:30 a.m.-4:30 p.m.

Closed: December 14, 2005; 8:30 a.m.-Noon.

Contact: Donna M. Bush, Ph.D., Executive Secretary, 1 Choke Cherry Road, Room 2-1033, Rockville, Maryland 20857, 240-276-2600 (telephone) and 240-276-2610 (fax), e-mail: Donna.Bush@samhsa.hhs.gov.

Dated: November 17, 2005.
Robert E. Stephenson,
Acting Committee Management Officer, Substance Abuse and Mental Health Services Administration.

[FR Doc. 05-23155 Filed 11-22-05; 8:45 am]

BILLING CODE 4162-20-P